DEPARTMENT OF TRANSPORTATION

Maritime Administration

[Docket No. MARAD-2024-0168]

Request for Comments on the Renewal of a Previously Approved Collection: Maritime Administration Jones Act Vessel Availability Determinations

AGENCY: Maritime Administration, DOT.

ACTION: Notice.

SUMMARY: The Maritime Administration (MARAD) invites public comments on our intention to request approval from the Office of Management and Budget (OMB) to renew an information collection in accordance with the Paperwork Reduction Act of 1995. The proposed collection OMB 2133-0545 (Maritime Administration (MARAD) Jones Act Vessel Availability Determinations) is used to collect information about the availability of qualified Jones Act vessels. Since the last renewal, there was a reduction in the public burden for this collection. We are required to publish this notice in the Federal Register to obtain comments from the public and affected agencies.

DATES: Comments must be submitted on or before March 10, 2025.

ADDRESSES: You may submit comments identified by Docket No. MARAD-2024-0168 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is necessary for the Department's performance; (b) the accuracy of the estimated burden; (c) ways for the Department to enhance the quality, utility, and clarity of the information collection; and (d) ways that the burden could be minimized without reducing the quality of the collected information. The agency will summarize and/or include your comments in the request for OMB's clearance of this information collection.

FOR FURTHER INFORMATION CONTACT: Lance Murray, 202-617-7792, Office of Cargo and Commercial Sealift, Maritime Administration, U.S. Department of Transportation, 1200 New Jersey Avenue SE, Washington, DC 20590, Email: Cargo.MARAD@dot.gov.

SUPPLEMENTARY INFORMATION:

Title: Maritime Administration (MARAD) Jones Act Vessel Availability Determinations.

OMB Control Number: 2133-0545.

Type of Request: Extension of a previously approved information collection.

Abstract: Pursuant to 46 U.S.C. 501(b), the Maritime Administrator is required to make determinations about the availability of qualified United States flag capacity to carry coastwise cargo in connection with all requests for waivers of the Jones Act (46 U.S.C. 55102). This information collection supports that mission.

Respondents: Coastwise qualified vessel owners, operators, charterers, brokers, and representatives.

Affected Public: Business or other for profit.

Estimated Number of Respondents: 65.

Estimated Number of Responses: 260.

Estimated Hours per Response: .75 Hrs.

Annual Estimated Total Annual Burden Hours: 195.

Frequency of Response: Four Times Annually.

(Authority: The Paperwork Reduction Act of 1995; 44 U.S.C. chapter 35, as amended; and 49 CFR 1.49.)

By Order of the Maritime Administrator.
T. Mitchell Hudson, Jr.,
Secretary, Maritime Administration.

[FR Doc. 2024-31601 Filed 1-3-25; 8:45 am]

BILLING CODE 4910-81-P